DEPARTMENT OF HEALTH AND HUMAN SERVICES

National Institutes of Health

National Institute of Environmental Health Sciences; Notice of Meeting

Pursuant to section 10(a) of the Federal Advisory Committee Act, as amended (5 U.S.C. App.), notice is hereby given of a meeting of the Interagency Breast Cancer and Environmental Research Coordinating Committee.

The meeting will be open to the public, with attendance limited to space available. Individuals who plan to attend and need special assistance, such as sign language interpretation or other reasonable accommodations, should notify the Contact Person listed below in advance of the meeting.

Name of the Committee: Interagency Breast Cancer and Environmental Research Coordinating Committee (IBCERC).

Date: December 14, 2011.

Time: 11 a.m. to 2 p.m.

Agenda: The purpose of the meeting is to review the consensus study (http://www.iom.edu/Activities/Environment/BreastCancerEnvironment.aspx) focused on breast cancer and the environment that is scheduled to be released by Institute of Medicine (IOM) December 7, 2011. In advance of the meeting, the detailed meeting agenda will be available on the web at http://www.niehs.nih.gov/about/orgstructure/boards/ibcercc/.

Place: NIEHS/National Institutes of Health, Building 4401, East Campus, 79 T.W. Alexander Drive, Research Triangle Park, NC 27709, (This meeting will be conducted remotely. To attend the meeting, please RSVP via email to ibcercc@niehs.nih.gov at least 10 days in advance and instructions for joining the meeting will be provided.).

Contact Person: Gwen Collman, Ph.D., Director, Division of Extramural Research and Training, Nat. Inst. of Environmental Health Sciences, National Institutes of Health, 615 Davis Dr., KEY615/3112, Research Triangle Park, NC 27709, (919) 541-4980, collman@niehs.nih.gov.

Any interested person may file written comments with the committee by forwarding the statement to the Contact Person listed on this notice. The statement should include the name, address, telephone number and when applicable, the business or professional affiliation of the interested person.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: November 8, 2011.
Jennifer S. Spaeth,
Director, Office of Federal Advisory Committee Policy.

[FR Doc. 2011-29610 Filed 11-15-11; 8:45 am]

BILLING CODE 4140-01-P